DEPARTMENT OF THE INTERIOR

Bureau of Reclamation

Notice of Availability for Public Comment of the Draft Decision on Implementation of Section 3406(b)(2) of the Central Valley Project Improvement Act (CVPIA) (Hereinafter Draft (b)(2) Decision), Central Valley Project (CVP), California

AGENCY: Bureau of Reclamation and Fish and Wildlife Service, Department of the Interior.

ACTION: Notice of Availability for public comment.

SUMMARY: CVPIA Section 3406(b)(2) authorized and directed the Secretary to dedicate and manage annually eight hundred thousand (800,000) acre-feet of Central Valley Project yield for the primary purpose of implementing the fish, wildlife, and habitat restoration purposes and measures authorized by CVPIA; to assist the State of California in its efforts to protect the waters of the San Francisco Bay/Sacramento San Joaquin Delta Estuary; and to help to meet such obligations as may be legally imposed upon the Central Valley Project under State or Federal law following the date of enactment of CVPIA, including but not limited to additional obligations under the Federal Endangered Species Act.

The U.S. Department of the Interior through the U.S. Bureau of Reclamation (Reclamation) and the U.S. Fish and Wildlife Service has developed the Draft (b)(2) Decision to implement CVPIA

Section 3406(b)(2). Public comment on the Draft (b)(2) Decision is invited at this time.

DATES: Submit written comments on the Draft (b)(2) Decision on or before February 3, 2003.

ADDRESSES: Copies of the Draft (b)(2) Decision may be retrieved from the Web site at http://www.mp.usbr.gov/cvpia/3406b2/index.html. Copies may also be requested by contacting Lynnette Wirth at (916) 978-5102 or via her email address lwirth@mp.usbr.gov, or by writing her at the below address.

Written comments on the Draft (b)(2) Decision should be addressed to the Bureau of Reclamation, Attention: Lynnette Wirth, MP-140, 2800 Cottage Way, Sacramento, CA 95825.

FOR FURTHER INFORMATION CONTACT: For additional information, please contact Lynnette Wirth at (916) 978-5102, or e-mail lwirth@mp.usbr.gov.

SUPPLEMENTARY INFORMATION: We are inviting the public to comment on Interior's Draft (b)(2) Decision. Interior has been dedicating and managing water pursuant to Section 3406(b)(2) beginning in 1993, the first water year following passage of the CVPIA. Since enactment of the statute, Interior has pursued ways to utilize (b)(2) water in conjunction with reoperation and water acquisitions to meet the goals of the CVPIA. Through this decision, Interior seeks to exercise Secretarial discretion to implement Section 3406(b)(2) in accordance with the language of CVPIA, the intent of Congress, as well as to make this decision consistent with the rulings of the District Court in San Luis & Delta Mendota Water Authority, et al v. United States, (CIV F 97-6140 OWW DLB) ((b)(2) litigation). This decision incorporates parts of the October 5, 1999, Final Decision upheld by the District Court, modifies others and adds new components. The intent of these changes is to simplify and clarify the accounting process for (b)(2) uses and to integrate its dedication and management with CVP operations for other CVP purposes.

Our practice is to make comments, including names and home addresses of respondents, available for public review. Individual respondents may request that we withhold their home address from public disclosure, and we will honor such requests to the extent allowed by law. There also may be circumstances in which we would withhold a respondent's identity from public disclosure, as allowed by law. If you wish Interior to withhold your name and/or address, you must state this prominently at the beginning of your comments. We will make all submissions from organizations or businesses, and from individuals identifying themselves as representatives or officials of organizations or businesses, available for public disclosure in their entirety.

Dated: December 12, 2002.
Kirk C. Rodgers,
Regional Director, Mid-Pacific Region.

[FR Doc. 02-33111 Filed 12-31-02; 8:45 am]

BILLING CODE 4310-MN-P